DEPARTMENT OF ENERGY

Federal Energy Regulatory Commission

Combined Notice of Filings #2

Take notice that the Commission received the following electric rate filings:

Docket Numbers: ER10-2531-006.

Applicants: Cedar Creek Wind Energy, LLC.

Description: Notice of Non-Material Change in Status of Cedar Creek Wind Energy, LLC.

Filed Date: 6/29/16.

Accession Number: 20160629-5150.

Comments Due: 5 p.m. ET 7/20/16.

Docket Numbers: ER16-711-002; ER14-1317-006; ER10-2538-006.

Applicants: Pio Pico Energy Center, LLC, Panoche Energy Center, LLC, Sunshine Gas Producers, LLC.

Description: Notice of Change in Status and Triennial Compliance Filing for the Southwest Region of Pio Pico Energy Center, LLC, et al.

Filed Date: 6/29/16.

Accession Number: 20160629-5175.

Comments Due: 5 p.m. ET 8/29/16.

Docket Numbers: ER16-999-002.

Applicants: Greenleaf Energy Unit 1 LLC.

Description: Notice of Non-Material Change in Status of Greenleaf Energy Unit 1 LLC.

Filed Date: 6/28/16.

Accession Number: 20160628-5283.

Comments Due: 5 p.m. ET 7/19/16.

Docket Numbers: ER16-999-003.

Applicants: Greenleaf Energy Unit 1 LLC.

Description: Triennial Update for Southwest Region of Greenleaf Energy Unit 1 LLC.

Filed Date: 6/28/16.

Accession Number: 20160628-5285.

Comments Due: 5 p.m. ET 8/29/16.

Docket Numbers: ER16-2062-000.

Applicants: Southwest Power Pool, Inc.

Description: § 205(d) Rate Filing: 2045R5 Westar Energy, Inc. NITSA and NOA to be effective 9/1/2016.

Filed Date: 6/29/16.

Accession Number: 20160629-5063.

Comments Due: 5 p.m. ET 7/20/16.

Docket Numbers: ER16-2063-000.

Applicants: Southwest Power Pool, Inc.

Description: § 205(d) Rate Filing: 2390R4 Westar Energy, Inc. NITSA and NOA (Herington) to be effective 9/1/2016.

Filed Date: 6/29/16.

Accession Number: 20160629-5070.

Comments Due: 5 p.m. ET 7/20/16.

Docket Numbers: ER16-2064-000.

Applicants: Southern California Edison Company.

Description: § 205(d) Rate Filing: Amended LGIA NextEra Blythe Solar Energy Center, LLC—Dracker Project to be effective 6/30/2016.

Filed Date: 6/29/16.

Accession Number: 20160629-5076.

Comments Due: 5 p.m. ET 7/20/16.

Docket Numbers: ER16-2065-000.

Applicants: Otter Tail Power Company.

Description: § 205(d) Rate Filing: Notice of Termination of Service Agreement for Ancillary Services for Otter Tail to be effective 5/12/2016.

Filed Date: 6/29/16.

Accession Number: 20160629-5077.

Comments Due: 5 p.m. ET 7/20/16.

Docket Numbers: ER16-2066-000.

Applicants: Southwest Power Pool, Inc.

Description: § 205(d) Rate Filing: 2491R4 Westar Energy, Inc. NITSA and NOA (Scranton) to be effective 9/1/2016.

Filed Date: 6/29/16.

Accession Number: 20160629-5082.

Comments Due: 5 p.m. ET 7/20/16.

Docket Numbers: ER16-2067-000.

Applicants: Southwest Power Pool, Inc.

Description: § 205(d) Rate Filing: 1890R5 Westar Energy, Inc. NITSA and NOA (Moran) to be effective 9/1/2016.

Filed Date: 6/29/16.

Accession Number: 20160629-5083.

Comments Due: 5 p.m. ET 7/20/16.

Docket Numbers: ER16-2067-001.

Applicants: Southwest Power Pool, Inc.

Description: Tariff Amendment: 1890R5 Westar Energy, Inc. NITSA and NOA (Moran) to be effective 9/1/2016.

Filed Date: 6/29/16.

Accession Number: 20160629-5180.

Comments Due: 5 p.m. ET 7/20/16.

Docket Numbers: ER16-2068-000.

Applicants: PJM Interconnection, L.L.C.

Description: § 205(d) Rate Filing: First Revised Service Agreement No. 4288; Queue No. AB1-064 to be effective 6/1/2016.

Filed Date: 6/29/16.

Accession Number: 20160629-5089.

Comments Due: 5 p.m. ET 7/20/16.

Docket Numbers: ER16-2069-000.

Applicants: MidAmerican Energy Company.

Description: § 205(d) Rate Filing: Market-Based Rate Tariff—5th Rev. to be effective 6/30/2016.

Filed Date: 6/29/16.

Accession Number: 20160629-5127.

Comments Due: 5 p.m. ET 7/20/16.

Docket Numbers: ER16-2070-000.

Applicants: Southwest Power Pool, Inc.

Description: § 205(d) Rate Filing: 1978R5 Westar Energy, Inc. NITSA and NOA (Toronto) to be effective 9/1/2016.

Filed Date: 6/29/16.

Accession Number: 20160629-5130.

Comments Due: 5 p.m. ET 7/20/16.

Docket Numbers: ER16-2071-000.

Applicants: Innovative Solar 43, LLC.

Description: Baseline eTariff Filing: Innovative Solar 43, LLC MBR Tariff to be effective 6/30/2016.

Filed Date: 6/29/16.

Accession Number: 20160629-5155.

Comments Due: 5 p.m. ET 7/20/16.

Docket Numbers: ER16-2072-000.

Applicants: PacifiCorp.

Description: Tariff Cancellation: Termination of BPA Construction Agmt (USBR Green Springs R1) to be effective 8/29/2016.

Filed Date: 6/29/16.

Accession Number: 20160629-5170.

Comments Due: 5 p.m. ET 7/20/16.

Docket Numbers: ER16-2073-000.

Applicants: Shell Energy North America (US), L.P.

Description: Market-Based Triennial Review Filing: Southwest Triennial & 819 Revisions to be effective 6/30/2016.

Filed Date: 6/29/16.

Accession Number: 20160629-5191.

Comments Due: 5 p.m. ET 8/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2016.
Nathaniel J. Davis, Sr.,
Deputy Secretary.

[FR Doc. 2016-15944 Filed 7-5-16; 8:45 am]

BILLING CODE 6717-01-P